POSTAL SERVICE

39 CFR Part 501

Authorization To Manufacture and Distribute Postage Evidencing Systems; Correction

AGENCY: Postal Service™.

ACTION: Correcting amendments.

SUMMARY: On December 4, 2020, the Postal Service published a final rule concerning decertifying and withdrawing all non-Intelligent Mail Indicia compliant Postage Evidencing Systems. That document incorrectly listed the date decertified indicia may not be recognized as valid postage for use or refunds in one section of the rule edits. This document corrects the final regulation.

DATES: This correcting amendment is effective December 10, 2020.

FOR FURTHER INFORMATION CONTACT: Ezana Dessie, Principal Business Systems Analyst, Ezana.Dessie@usps.gov, (202) 268-5686.

SUPPLEMENTARY INFORMATION: In the final rule published on December 4, 2020, 85 FR 78234, in § 501.20, the Postal Service listed the effective date that decertified indicia may not be recognized as valid postage for use or refunds as June 20, 2025. This should instead read June 30, 2025. The Postal Service makes this change below.

List of Subjects in 39 CFR Part 501

Administrative practice and procedure, Postal Service.

For the reasons stated in the preamble, the Postal Service corrects 39 CFR part 501 by making the following correcting amendment:

PART 501—[AMENDED]

1. The authority citation for part 501 continues to read as follows:

Authority: 5 U.S.C. 552(a); 39 U.S.C. 101, 401, 403, 404, 410, 2601, 2605; Inspector General Act of 1978, as amended (Pub. L. 95-452, as amended); 5 U.S.C. App. 3.

2. Amend § 501.20 by revising paragraph (b) to read as follows:

§ 501.20 Discontinued Postage Evidencing Indicia.

* * * * *

(b) Effective December 31, 2024 all Postage Evidencing Systems that do not to produce Intelligent Mail Indicia (IMI) for evidence of pre-paid postage must be withdrawn from service. Non-IMI indicia, which are not compliant with the then-current version of the IMI-PC, will be decertified and may not be used as a valid form of postage evidence. These decertified indicia may not be recognized as valid postage for use or refunds, after June 30, 2025.

Ruth Stevenson,
Attorney, Federal Compliance.

[FR Doc. 2020-27100 Filed 12-7-20; 11:15 am]

BILLING CODE P